OFFICE OF PERSONNEL MANAGEMENT

Submission for OMB Review; Comment Request for an Expiring Information Collection: RI 30-10

AGENCY: Office of Personnel Management.

ACTION: Notice.

SUMMARY: In accordance with the Paperwork Reduction Act of 1995 (Public Law 104-13, May 22, 1995), this notice announces that the Office of Personnel Management (OPM) has submitted to the Office of Management and Budget a request for review of an expiring information collection. RI 30-10, Disabled Dependent Questionnaire, is used by the Office of Personnel Management to collect information about the medical condition and earning capacity of disabled adult children to determine whether they are eligible for health benefits coverage and/or survivor annuity payments under the Civil Service Retirement System or the Federal Employees Retirement System.

Approximately 2,500 RI 30-10 forms will be completed annually. The form takes approximately 60 minutes to complete. The annual burden is 2,500 hours.

For copies of this proposal, contact Mary Beth Smith-Toomey on (202) 606-8358, or E-mail to mbtoomey@opm.gov

DATES: Comments on this proposal should be received on or before July 5, 2001.

ADDRESSES: Send or deliver comments to—

Ronald W. Melton, Chief, Operations Support Division, Retirement and Insurance Service, U.S. Office of Personnel Management, 1900 E Street, NW, Room 3349A, Washington, DC 20415

and

Joseph Lackey, OPM Desk Officer, Office of Information and Regulatory Affairs, Office of Management and Budget, New Executive Office Building, NW, Room 10235, Washington, DC 20503.

FOR INFORMATION REGARDING ADMINISTRATIVE COORDINATION—CONTACT: Donna G. Lease, Team Leader, Forms Analysis and Design, Budget and Administrative Services Division, (202) 606-0623.

Office of Personnel Management.
Steven R. Cohen,
Acting Director.

[FR Doc. 01-13919 Filed 6-1-01; 8:45 am]

BILLING CODE 6325-50-P